DEPARTMENT OF LABOR

Office of the Secretary

A Bangladesh Network of Women Workers' Education Centers

AGENCY: Bureau of International Labor Affairs, Department of Labor.

ACTION: Notice of Availability of Funds and Solicitation for Cooperative Agreement Applications (SGA 02-23).

This notice contains all of the necessary information and forms needed to apply for cooperative agreement funding.

SUMMARY: The U.S. Department of Labor (USDOL), Bureau of International Labor Affairs (ILAB), will award up to US $700,000 through one or more cooperative agreements to an organization or organizations (“the applicant”) to implement a program in the Bangladeshi garment industry to increase adherence to internationally-recognized worker rights; improve workplace safety and health; and to provide garment workers with access to basic health care and legal counseling. USDOL is seeking applications from qualified applicants for the expansion of a pilot project initiated in Dhaka, Bangladesh, in 2000 to design and establish a Working Women's Education Center (WWEC) for the delivery of information and services to women working in the garment industry—the country's largest export industry. The pilot project, funded by USAID and implemented by the American Center for International Labor Solidarity (ACILS), involved a partnership with a number of local non-governmental organizations (such as Ain o Shalish Kendra, the Bangladesh Legal Aid and Services Trust, the Bangladesh National Women's Lawyers Association, and the Welfare Association of Repatriated Bangaldeshi Employees) and the Bangladesh Independent Garment Workers Union Federation.

DATES: The closing date for receipt of applications is September 11th, 2002. As described in Section III.B. and C., applications must be received by 4:45 p.m. (Eastern Daylight Savings Time) at the address below. No exceptions to the mailing, delivery, and hand-delivery conditions set forth in this notice will be granted. Applications that do not meet the conditions set forth in this notice will not be honored.

ADDRESSES: Application forms will not be mailed. They are published in this Federal Register Notice, and in the Federal Register which may be obtained from your nearest U.S. Government office, public library or on-line at http://www.archives.gov/federal_register/index. Applications must be delivered to: U.S. Department of Labor, Procurement Services Center, 200 Constitution Avenue, NW., Room N-5416, Attention: Lisa Harvey, Reference: SGA 02-23, Washington, DC 20210. Applications sent by e-mail, telegram, or facsimile (FAX) will not be accepted. Applications sent by other delivery services, such as Federal Express, UPS, etc., will be accepted; however, the applicant bears the responsibility for timely submission. Submission requirements are described in Section III.C. of this notice.

FOR FURTHER INFORMATION CONTACT: Lisa Harvey: e-mail address: harvey-lisa@dol.gov. All applicants are advised that U.S. mail delivery in the Washington, DC area has been slow and erratic due to the recent enhanced security measures. All applicants must take this into consideration when preparing to meet the application deadline. It is recommended that you confirm receipt of your application by contacting Lisa Harvey, U.S. Department of Labor, Procurement Services Center, telephone (202) 693-4570 (this it not a toll-free number), prior to the closing deadline. All inquiries should reference SGA 02-23. See Section III.B. for further information regarding submission of applications.

SUPPLEMENTARY INFORMATION: ILAB announces the availability of funds to be granted by cooperative agreement to a qualifying organization to achieve the following program objectives in the Bangladesh garment export industry: (1) Increase adherence to internationally-recognized worker rights as described in the 1998 ILO Declaration on Fundamental Principles and Rights at Work; (2) promote greater awareness of national and international labor law among workers; (3) provide workers with access to basic health care and legal counseling; and (4) improve the occupational safety and health of workers, particularly with regard to fire prevention and safety. The cooperative agreement will be carried out in collaboration with local NGOs and workers' representatives, and with the participation of employers and employer organizations. Proposals must include ways to support the existing WWEC in Dhaka, and must include recommendations for the location of additional centers. Of the additional centers, one must be located in Dhaka. In each location, the pilot project should address the above-mentioned objectives. In addition, the project should take into consideration the availability of local collaborating organizations, the specific needs of workers in that location, and the prospects for sustained improvements.

The cooperative agreement is to be actively managed by ILAB to assure the achievement of the stated objectives. Applicants are encouraged to be creative in proposing an innovative and cost-effective program that will have a demonstrable impact on achieving the overall objectives.

I. Background and Program Scope

A. Background: Bangladesh Garment Export Industry

The driving force of the Bangladeshi economy is the sustained growth of its garment industry, which now accounts for 75% of the country's export revenues and employs 1.5 million workers. The country is in the very early stages of implementing laws and regulations to protect workers. The workers in the garment industry are mostly young women who lack access to education regarding their rights in the workplace and have difficulty exercising these rights. Consequently, abusive labor practices, including the harassment of women workers, are alleged to occur frequently.

The Working Women's Education Center (WWEC) pilot project was established in 2000 to address these challenges. The WWEC sponsors education programs on labor issues, and it offers participants, mainly young women working in garment factories, basic medical care, and legal counseling. Issues covered at the center include workers' rights and responsibilities, factory laws, family laws, gender issues, trafficking in persons, and dispute resolution. In the first year of the pilot project, the center sponsored 200 activities benefiting approximately 2,500 female workers. The program has demonstrated strengths in several ways. First, program activities directly and effectively address the day-to-day concerns of the workers; timely assistance is provided to resolve issues that often directly affect the lives of workers and their families (such as gender-based discrimination in the workplace, dangerous, and even life-threatening, working conditions, and the payment of legal wages). Second, workshops and legal counseling sessions are conducted primarily by leading Bangladeshi legal and labor experts.

Support for this program has helped forge stronger links between key actors in the emerging civil society and garment workers and it operates with the endorsement of the Government of Bangladesh. “Promoting democracy” is a key U.S. objective in Bangladesh, where the U.S. mission is currently focusing on efforts that ensure seamless introduction of effective and responsible modern industrial relations practices in the Export Processing Zones.

B. Program Scope

For any proposal to be considered responsive to this solicitation, it must contain proposed projects that cover all of the following four aspects: (i) Strengthening the rule of labor law; (ii) the development of one or more WWECs; (iii) the provision of workers' education and services; and (iv) the preparation, publication, translation, and distribution of research and educational materials for workers. Applicants are encouraged to develop innovative forms of cooperative relationships with employers, employers' and workers' representatives, the Government of Bangladesh, and national organizations, including non-governmental organizations in performing activities proposed.

(i) Strengthening the Rule of Law

Applicants should propose specifically how they will provide legal aid to garment workers. Applicants may consider offering counseling at the WWECs, providing services directly or through referrals to other local, national, or international organizations.

(ii) Development of WWEC(s)

Applicants should: (a) Define the number and location of WWECs; (b) offer a rationale for said number and location; (c) describe the way in which workers will be made aware of the WWECs and the services they offer; (d) specify the total number of workers to be served over the duration of the project and their characteristics; (e) detail the staffing and administration of the centers; (f) explain how workers will actually receive services; and (g) describe how the centers will be sustained after the grant period.

(iii) Provision of Workers' Education Programs and Services

Applicants should provide a description of the variety of education programs that will provide workers with important information on a broad range of subjects such as: sexual harassment and other gender-related issues; family law; labor law, grievance handling and court procedures; occupational safety and health, particularly fire safety; collective bargaining; leadership skills; and health and hygiene, including the prevention of HIV/AIDS.

(iv) Research, Publication, Translation, and Distribution of Research and Education Materials for Workers

Applicants should describe the education materials and pedagogical approach that will be used at the Centers and indicate if materials already exist or will be developed after the initiation of the project. Applicants should propose a program of formal and informal research as needed to build broad-based support for the issues to be addressed by the WWECs' education programs and they should include a component on publication, translation, and distribution to ensure the use and effectiveness of the research findings.

II. Authority

ILAB is authorized to award and administer this program by the Departments of Labor, Health and Human Services, and Education and Related Agencies Appropriations Act, 2002, Public Law 107-116, 115 Stat. 2177 (2002).

III. Application Process

A. Eligible Applicants

Any commercial, international, or non-profit organization, including faith-based organizations, capable of successfully implementing the scope of work and meeting the following requirements is eligible to submit an application. Joint applications, consisting of more than one organization, are also eligible and are encouraged. In such a case, a lead organization must be identified. The capability of an applicant and collaborating organizations to perform necessary aspects of this solicitation will be determined under Section V.B. Rating Criteria and Selection.

Please note that eligible cooperative agreement applicants must not be classified under the Internal Revenue Code as a Section 501(c)(4) Entity. See 26 U.S.C. 501(c)(4). According to the Lobbying Disclosure Act of 1995, as amended, 2 U.S.C. 1611, an organization, as described in section 501(c)(4) of the Internal Revenue Code of 1986, that engages in lobbying activities will not be eligible for the receipt of federal funds constituting an award, grant, or loan.

B. Submission of Applications

One (1) ink-signed original, complete application plus two (2) copies must be submitted to the U.S. Department of Labor, Procurement Services Center, 200 Constitution Avenue, NW., Room N-5416, Washington, DC 20210, not later than 4:45 p.m. EDST, September 11th, 2002.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Program Scope (Section I.B.), the Statement of Work (Section IV.A.) and the selection criteria (Section V.B.).

To be considered responsive to this solicitation, the application must consist of the above-mentioned separate sections not to exceed 40 single-sided (8½″ x 11″), double-spaced, 10 to 12 pitch typed pages. Any applications that do not conform to these standards may be deemed non-responsive to this solicitation and may not be evaluated. Standard forms and attachments are not included in the page limit. The application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Procurement Services Center after 4:45 p.m. EDST, September 11th, 2002, will not be considered unless it is received before the award is made and:

1. It was sent by registered or certified mail not later than the fifth calendar day before September 11th, 2002;

2. It is determined by the Government that the late receipt was due solely to mishandling by the Government after receipt at the U.S. Department of Labor at the address indicated; or

3. It was sent by U.S. Postal Service Express Mail Next Day Service-Post Office to Addressee, not later than 5 pm at the place of mailing two (2) working days, excluding weekends and Federal holidays, prior to September 11th, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570, prior to the closing deadline. All inquires should reference SGA 02-23.

D. Funding Levels

Approximately US $700,000 is budgeted to fund this program. Although USDOL reserves the right to award more than one cooperative agreement, several collaborating organizations may apply jointly to implement the program. Joint applicants will submit one application for the implementation of all projects (including pilot projects in localities) and are encouraged to utilize local organizations to implement portions of the program in order to institutionalize and sustain project improvements and reduce costs. The award of any contract or sub-contract to a local organization will be subject to USDOL approval. See Section IV.D. Administrative Requirements.

E. Program Duration

The duration of the program is two (2) years. The start date of project activities will be negotiated upon the award of the cooperative agreements.

IV. Requirements

A. Statement of Work

In developing their proposals, applicants should develop a strategy for implementation of the project objectives as stated in the section SUPPLEMENTARY INFORMATION. The strategy should take into account the implementing environment in Bangladesh as well as that of the specific locations of the centers. The strategy should also demonstrate how the applicant proposes to build upon the success of existing or past projects supported by other international donors, and coordinate activities among them at the local and national level. Further, the applicant should draft a strategy demonstrating how it will meet the project objectives by the end of the grant period, and how sustainability will be an integral element of the overall program. The strategy should also demonstrate how it will include nongovernmental organizations, as appropriate, in the development and implementation of the project.

The applicants must present a strategy that demonstrates that at least

• 15,000 to 20,000 working women will receive services sponsored by the WWECs; and

• 800 to 1,600 events (for the purpose of this notice, events are classes, training activities, or consultation activities, etc.) will be held under the auspices of the WWECs.

These figures are supported by the results of the pilot project initiated in 2000. The strategy must also include the collection of baseline data from WWEC participants so that indicators of performance may be established as part of the project design document discussed below.

B. Deliverables

Following the award of the cooperative agreement(s), unless otherwise indicated, the grantee must submit copies of all required reports to USDOL by the specified due dates. Other documents, such as project designs, are to be submitted by mutually agreed-upon deadlines.

1. Project Designs

The grantee(s) will draft the design and submit a project document, in consultation with ILAB officials and in the format established by ILAB, to include a background/justification section, project strategy (objectives, outputs, activities, indicators), project implementation timetable, project management organizational chart, project budget, logical framework and performance monitoring plan to systematically monitor project results. The document shall also include sections, which cover coordination strategies, project management, and sustainability of project improvements involving government, employers' and workers' organizations as well as other nongovernmental organizations as appropriate. The project design will be drawn, in part, from the proposal written in response to this solicitation. USDOL may determine that it is necessary for the organization(s) awarded the cooperative agreement (grantee) to travel to Bangladesh with USDOL officials on a project design mission trip in order to prepare this document.

2. Technical Progress Reports

The grantee(s) must furnish a typed technical report to USDOL on a quarterly basis, no later than 15 days from the last date of each quarter, i.e., 31 March, 30 June, 30 September and 31 December of each year. The 30 June (2nd quarter) and 31 December (4th quarter) reports are abbreviated and need only indicate whether the work plan was fully implemented and if not, explain why not and attach the amended work plan. The grantee(s) must also furnish a separate financial report (SF 272) to USDOL on the same quarterly basis. The format for the technical progress report will be the standard format developed by USDOL and must contain the following information:

a. For each project objective, an accurate account of activities carried out under that objective during the reporting period as it relates to the work plan;

b. Major trends in the project that note particular success with a particular activity or trends that indicate a need to readjust or expand the work plan;

c. An account of problems, proposed solutions, actions taken or required regarding implementation of the project;

d. New proposals for activities, staffing, funding, etc.;

e. Lessons learned in project implementation;

f. Future actions planned in support of each project objective;

g. An accounting of staff and any sub-contractor hours expended; and

h. Aggregate amount of costs incurred during the reporting period, including estimated budget expenditures vs. actual expenditures.

3. Annual Work Plan

An annual work plan for the project will be submitted within 45 days after the approval of the project design by USDOL. The second annual work plan, when revised, will be delivered to reflect modifications in implementation, no later than one year following submission of the previous work plan, or when based on recommendations made during mid-term evaluations, no later than 30 days following the mid-term evaluation.

4. Monitoring and Evaluation

A performance monitoring plan will be developed in collaboration with USDOL, including beginning and ending dates for projects and dates for mid-term and final project evaluations, and will be included as part of the submission of the project document for USDOL approval. The plan will include performance indicators and instruments to collect and report on performance data on a semi-annual basis.

5. Evaluation Reports

The Grant Officer's Technical Representative (GOTR) will determine whether a mid-term evaluation will be conducted by an internal or external evaluation team. The final evaluation will be external in nature. In all cases, evaluations will be objective and carried out by independent evaluators. The grantee(s) must respond to any comments and recommendations resulting from the review of the mid-term report and will submit a work plan for implementing the recommendations of the mid-term report within 15 days following formal submission of the report to the grantee(s) by USDOL. Applicants need to allocate funds for these activities in the proposed budget.

C. Production of Deliverables

1. Materials Prepared and Purchased Under the Cooperative Agreement

The grantee(s) must obtain prior approval from the Grant Officer for all materials developed or purchased under this cooperative agreement. The grantee(s) must submit to USDOL all media-related and educational materials developed by it or its sub-contractor under this cooperative agreement(s), including relevant press releases, for use in this project(s) before they are reproduced, published, or used. The grantee(s) must consult with USDOL to ensure that such materials are compatible with USDOL materials relating to the program, i.e., public relations material such as video and web site. USDOL considers brochures, pamphlets, videotapes, slide-tape shows, curricula, and any other training materials used in the program as media-related and educational materials. USDOL will review materials for technical accuracy. USDOL will also review training curricula and purchased training materials for accuracy before they are used. All materials produced by grantee(s) must be provided to USDOL in a digital format for possible publication on the Internet by USDOL.

2. Acknowledgment of USDOL Funding

In all circumstances, the following must be displayed on printed materials:

Preparation of this item was funded by the United States Department of Labor under Cooperative Agreement No. [insert the appropriate cooperative agreement number].

When issuing statements, press releases, requests for proposals, bid solicitations, and other documents describing projects or programs funded in whole or in part with Federal money, all grantees receiving Federal funds, including State and local governments and recipients of research grants, must clearly state:

a. The percentage of the total costs of the program or project that will be financed with Federal money;

b. The dollar amount of Federal funds for the project or program; and

c. The percentage and dollar amount of the total costs of the project or program that will be financed by non-governmental sources.

In consultation with USDOL, USDOL's role will be acknowledged in one of the following ways:

a. The USDOL logo may be applied to USDOL-funded material prepared for world-wide distribution, including posters, videos, pamphlets, research documents, national survey results, impact evaluations, best practice reports, and other publications of global interest. The grantee(s) will consult with USDOL on whether the logo should be used on any such items prior to final draft or final preparation for distribution. In no event shall the USDOL logo be placed on any item until USDOL has given the grantee written permission to use the logo, after obtaining appropriate internal USDOL approval for use of the logo on the item.

b. If the USDOL determines the logo is not appropriate and does not give written permission, the following notice must appear on the document:

“This document does not necessarily reflect the views or policies of the U.S. Department of Labor, nor does mention of trade names, commercial products, or organizations imply endorsement by the U.S. Government.”

D. Administrative Requirements

1. General

Grantee organizations will be subject to applicable Federal laws (including provisions of appropriations law) and the applicable Office of Management and Budget (OMB) Circulars. Determinations of allowable costs will be made in accordance with the applicable Federal cost principles, e.g., Non-Profit Organizations—OMB Circular A-122. The cooperative agreement(s) awarded under this SGA will be subject to the following administrative standards and provisions, if applicable:

29 CFR part 36—Federal Standards for Nondiscrimination on the Basis of Sex in Education Programs or Activities Receiving Federal Financial Assistance.

29 CFR part 93—New Restrictions on Lobbying.

29 CFR part 95—Uniform Administrative Requirements for Grants and Agreements with Institutions of Higher Education, Hospitals and Other Non-Profit Organizations, and with Commercial Organizations, Foreign Governments, Organizations Under the Jurisdiction of Foreign Governments and International Organizations.

29 CFR part 96—Federal Standards for Audit of Federally Funded Grants, Contracts and Agreements.

29 CFR part 98—Federal Standards for Government-wide Debarment and Suspension (Nonprocurement) and Government-wide Requirements for Drug-Free Workplace (Grants).

29 CRF part 99—Federal Standards for Audits of States, Local Governments, and Non-Profit Organizations.

2. Sub-contracts

Sub-contracts must be awarded in accordance with 29 CFR 95.40-48. In compliance with Executive Orders 12876 as amended, 13230, 12928, and 13021 as amended, the grantee(s) is strongly encouraged to provide subcontracting opportunities to Historically Black Colleges and Universities, Hispanic-Serving Institutions, and Tribal Colleges and Universities.

3. Key Personnel

The applicant must list the individual(s) who has been designated as having primary responsibility for the conduct and completion of all work in the project(s) it proposes. The grantee(s) agrees to inform the GOTR whenever it appears impossible for one or more of these individual(s) to continue work on the project as planned. The grantee(s) may nominate substitute personnel for approval of the GOTR; however, the grantee(s) must obtain prior approval from the Grant Officer for all key personnel. If the Grant Officer determines not to approve the personnel change, he/she reserves the right to terminate the cooperative agreement.

4. Encumbrance of Cooperative Agreement Funds

Cooperative agreement funds may not be encumbered/obligated by the grantee(s) before or after the cooperative agreement period of performance. Encumbrances/obligations outstanding as of the end of the cooperative agreement period may be liquidated (paid out) after the end of the cooperative agreement period. Such encumbrances/obligations may involve only commitments for which a need existed during the cooperative agreement period and which are supported by approved contracts, purchase orders, requisitions, invoices, bills, or other evidence of liability consistent with the grantee(s)'s purchasing procedures and incurred within the cooperative agreement period. All encumbrances/obligations incurred during the cooperative agreement period must be liquidated within 90 days after the end of the cooperative agreement period, if practicable.

5. Site Visits

USDOL, through its authorized representatives, has the right, at all reasonable times, to make site visits to review project accomplishments and management control systems and to provide such technical assistance as may be required. If USDOL makes any site visit on the premises of the grantee(s) or a sub-contractor(s) under this cooperative agreement(s), the grantee(s) must provide and must require its sub-contractors to provide all reasonable facilities and assistance for the safety and convenience of the Government representatives in the performance of their duties. All site visits and evaluations must be performed in such a manner as will not unduly delay the work.

V. Review and Selection of Applications for Cooperative Agreement Award

A. The Review Process

USDOL will screen all applications to determine whether all required elements are present and clearly identifiable. A technical panel will objectively rate each complete application against the criteria described in this announcement. The panel recommendations to the Grant Officer are advisory in nature. The Grant Officer may choose to select one or more grantees on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make a final selection determination based on what is most advantageous to the Government, considering factors such as panel findings, geographic presence of the applicants, the best value to the Government, cost, and other factors. The Grant Officer's determination for award under this SGA 02-20 is final.

Notice: Selection of an organization as a cooperative agreement recipient does not constitute approval of the cooperative agreement application as submitted. Before the actual cooperative agreement is awarded, the Grant Officer may enter into negotiations concerning such items as program components, funding levels, and administrative systems. If the negotiations do not result in an acceptable submission, the Grant Officer reserves the right to terminate the negotiation and decline to fund the application.

B. Rating Criteria and Selection

The technical panel will review grant applicants against the criteria listed below on the basis of 100 points with up to five additional points available for applications identifying non-federal or leveraged resources.

The criteria are presented in the order of emphasis that they will receive.

1. Approach, Understanding of the Issue, and Program Plans (40 points)

a. Overview. This section of the proposal must explain the strategy employed by the applicant to achieve the objectives of the project within the specified timeframe. The applicant must describe in detail the proposed approach to comply with each requirement in Section IV.A. of this solicitation, including all tasks and methods to be utilized to implement the project. Also, the applicant must demonstrate how the proposed activities would address issues discussed in Sections I.A. and B.

b. Logical Framework. The strategy should include an outline of the objectives, activities, and indicators envisioned for implementation of the program.

c. Implementation Plan. The applicant must submit an implementation plan for the entire program, preferably with a visual aid such as a Gantt chart. The implementation plan should outline the approach that will be used to implement the program. The plan should list the activities envisioned for the duration of the program and should lay out an activity schedule by objective, starting with the execution of the cooperative agreement and ending with the final report. In describing the implementation plan, the applicant must address the following points:

(1) Describe the use of existing or potential infrastructure and use of qualified personnel, including qualified nationals, to implement the project in Dhaka as well as in other selected project sites. The applicant also must include a project organizational chart, demonstrating the management structure, key personnel positions, and indicating proposed links with the relevant government ministries, local government agencies/bureaus, NGOs, universities, and other significant local actors.

(2) Develop a list of activities and explain how each relates to the overall development objectives as stated in Section I.

(3) Explain how appropriate information and education materials and training curriculum will be developed.

(4) Explain the strategy for coordinating activities conducted at each center with lessons learned.

(5) Demonstrate how the program will strengthen the ability of working women to protect their rights as prescribed by national law.

(6) Demonstrate how the grantee will collect baseline data and systematically monitor and report on project performance to measure the achievement of the project objective(s).

(7) Demonstrate how the grantee will build national and local capacity to ensure that project efforts to enhance the implementation and enforcement of national labor laws would be sustained after completion of the project.

d. Management and Staff Loading Plan. The application must also include a management and staff loading plan. The management plan should include the following:

(1) If two organizations are applying for the award in collaboration, they must demonstrate an approach to ensure successful collaboration including clear delineation of respective roles and responsibilities. The applicants must also identify the lead organization and submit the collaboration agreement.

(2) A project organization chart and accompanying narrative which differentiates between elements of the applicant's staff and subcontractors or consultants who will be retained;

(3) A description of the functional relationship between elements of the project's organization; and

(4) The identity of the individual(s) responsible for project management and the lines of authority between this/these individual(s) and other elements of the project.

The staff loading plan must identify all key tasks and the person-days required to complete each task. Labor estimates for each task must be broken down by individuals assigned to the task, including sub-contractors and consultants. All key tasks must be charted to show time required to perform them by months or weeks.

2. Experience and Qualifications of the Applicant (25 points)

The evaluation criteria in this category are as follows:

a. The applicant organization and collaborating organizations must demonstrate experience of working on developmental projects in Bangladesh.

b. The applicant must demonstrate prior experience of working directly with government ministries, local government organizations, employers, workers, NGOs, and academic institutions, as well as with U.S. Missions, in the area of legal aid and worker education generally and more specifically in applying that experience to the following issues: sexual harassment and other gender-related issues; family law; labor law, grievance handling and court procedures; occupational safety and health, particularly fire safety; collective bargaining; leadership skills; and health and hygiene, including the prevention of HIV/AIDS.

c. The applicant must also demonstrate that it can negotiate and implement developmental projects in Bangladesh and that it has the appropriate international experience and expertise to carry out program responsibilities in Bangladesh.

d. The applicant must demonstrate that it has staff or is able to recruit staff that can communicate effectively with Bangladeshi employers, workers, migrant workers, and officials. Preference will be given to applicant organizations with staff that have local language skills.

e. The proposal must include information regarding previous grants, contracts, or cooperative agreements relevant to this solicitation. This information must include:

(1) The organization for whom the work was done;

(2) A contact person in that organization with his/her current phone number;

(3) The dollar value of the grant, contract or cooperative agreement for the project(s);

(4) The time frame and administrative and programmatic effort involved in the project(s);

(5) A brief summary of the work performed; and

(6) A brief summary of accomplishments.

This information on previous grants and contracts shall be provided in appendices and will not count toward the 40-page maximum page requirement.

3. Experience and Qualifications of Key Personnel (25 points)

This section of the application must include sufficient information for judging the quality and the competence of key staff proposed to be assigned to the project(s) proposed to assure that they meet the required qualifications. Successful performance of the proposed work depends heavily on the qualifications of the individuals committed to the project. Accordingly, in its evaluation of each application, USDOL will place emphasis on the applicant's commitment of key personnel qualified for the work involved in accomplishing the assigned tasks. Information provided on the experience and educational background of personnel must indicate the following:

(a) The identity of key personnel assigned to the project. “Key personnel” are staff who are essential to the successful operation of the project and completion of the proposed work and, therefore, may not be replaced or have his or her hours reduced without the approval of the Grant Officer.

(b) The educational background, relevant language skills, and experience of proposed staff.

(c) The special capabilities of key personnel that demonstrate prior experience in organizing, managing and performing similar efforts.

(d) The current employment status of key personnel and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance is proposed, organizational control should be clearly delineated to ensure responsiveness to the needs of USDOL. Key personnel must sign letters of agreement to serve on the project, and indicate availability to commence work within three weeks of grant award.

The following information must be furnished:

(a) The applicant must designate a Program Director and other key personnel to oversee the program. The Program Director must have a minimum of three years of professional experience in a leadership role in implementation of complex labor programs in developing countries. He or she must demonstrate sufficient knowledge of and understanding of Bangladesh's political and economic development, its government, and the complexity of employer and worker relations.

(b) The applicant should specify other key personnel proposed to carry out the requirements of this solicitation.

(c) An organization chart showing the applicant's proposed organizational structure for performing task requirements for the project(s) proposed, along with a description of the roles and responsibilities of all key personnel proposed for this project(s). The chart should also differentiate between elements of the applicant's staff and sub-contractors or consultants who will be retained. (Also see requirement under Section V.B.I.c.(1). Applicants may submit only one organization chart.)

(d) Identify all key tasks and the person-days required to complete each task. Labor estimates for each task must be broken down by individuals assigned to the task, including sub-contractors and consultants. All key tasks must be charted to show time required to perform them by months or weeks.

(e) A resume for each of the key personnel to be assigned to the program. At a minimum, each resume must include: the individual's current employment status and previous work experience, including position title, duties performed, dates in position, employing organizations and educational background, including local language skills (if any). Duties must be clearly defined in terms of role performed, i.e., manager, team leader, consultant, etc. (Resumes must be included as attachments, which do not count toward the page limitation.)

(f) The special capabilities of staff that demonstrate prior experience in organization, managing and performing similar efforts.

4. Budget Plan (10 points)

The applicant must develop one proposed budget for the implementation of the entire program, including pilot projects in localities. This section of the application must explain the costs for performing all of the requirements presented in this solicitation and for producing all required reports and other deliverables presented in this solicitation; costs must include labor, training, material production and dissemination, equipment, travel and other related costs. The budget plan will be evaluated to determine the efficient and effective allocation of funding for proposed program implementation. Preference may be given to applicants with low administrative costs. Administrative costs shall be reflected separately on the budget plan from programmatic costs. The budget must comply with Federal cost principles (which can be found in the applicable OMB Circulars).

5. Leveraging of Funding (extra 5 points)

USDOL will give up to five (5) additional rating points to applications that include non-Federal resources that significantly expand the dollar amount, non-monetary resources, size and scope of the proposal, or capitalize upon previous U. S. government or private investments. The applicant may include any leveraging or co-funding anticipated. To be eligible for additional points under this criterion, the applicant must list the source(s) of funds, the nature, and activities anticipated with these funds under this cooperative agreement, and any partnerships, linkages or coordination of activities, and/or cooperative funding.

The earlier paragraphs will be incorporated into the text of the cooperative agreement with the selected applicant(s).

Signed in Washington, DC, on this 9th day of August, 2002.
Lawrence J. Kuss,
Grant Officer.

Appendix A: Application for Federal Assistance (SF424)

Appendix B: Budget Information (SF424A)

BILLING CODE 4510-28-P

[FR Doc. 02-20584 Filed 8-13-02; 8:45 am]

BILLING CODE 4510-28-C